DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with July anniversary dates. In accordance with the Department's regulations, we are initiating those administrative reviews.

DATES: Effective August 28, 2013.

FOR FURTHER INFORMATION CONTACT: Brenda E. Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with July anniversary dates.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(1)(i), a copy must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review, or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently completed segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than July 30, 2014.

| Period to be reviewed
Antidumping Duty Proceedings
Finland: Purified Carboxymethylcellulose A-405-803 | 7/1/12-6/30/13
CP Kelco Oy
India: Polyethylene Terephthalate (PET) Film A-533-824 | 7/1/12-6/30/13
Ester Industries Ltd
Garware Polyester Ltd
Jindal Poly Films Limited of India
MTZ Polyesters Ltd
Polyplex Corporation Ltd
SRF Ltd
Uflex Limited
Vacmet
Italy: Certain Pasta A-475-818 | 7/1/12-6/30/13
Alica srl
Dalla Costa Alimentare srl
Delverde Industrie Alimentari S.p.A
Ghigi Industria Agroalimentare in San Clemente srl
Molino e Pastificio Tomasello S.p.A
Pasta Lensi S.r.l
Pasta Zara S.p.A
Pastificio Toscano srl
Rummo S.p.A. Molino e Pastificio
Valdigrano di Flavio Pagani S.r.L
Russian Federation: Solid Urea A-821-801 | 7/1/12-6/30/13
MCC EuroChem
Spain: Chlorinated Isocyanurates ³ A-469-814 | 6/1/12-5/31/13
Ercros, S.A
Taiwan: Polyethylene Terephthalate (PET) Film A-583-837 | 7/1/12-6/30/13
Nan Ya Plastics Corporation
Shinkong Materials Technology Corporation
The Netherlands: Purified Carboxymethylcellulose A-421-811 | 7/1/12-6/30/13
Akzo Nobel Functional Chemicals B.V
The People's Republic of China: Certain Steel Grating ⁴ A-570-947 | 7/1/12-6/30/13
Anping Jinyuan Metal
Anping Jinyuan Metal Co., Ltd
Comtrust Metal & Ware Mesh Products Co. Ltd
Comtrust Metal Wire Mesh Product Factory
Dalian AW Gratings
Dalian AW Gratings, Ltd
Fujian Youxi Best Arts & Crafts Co., Ltd
Guangzhou Webforge
Guangzhou Webforge Grating Co., Ltd
Hebei Jinshi Industrial Metal
Hebei Jinshi Industrial Metal Co., Ltd
Jiashan Qilimei Grating
Jiashan Qilmei Grating Co., Ltd
Kingjoy Building Decorative Materials Co Ltd
Ningbo Haitian International Co., Ltd
Ningbo Jiulong Machinery Manufacturing Co., Ltd
Ningbo Lihong Steel Grating Co., Ltd
Ningbo Zhenhai Jiulong Electronic Equipment Factory
Shanghai Shenhao Steel Structure Designing
Shanghai Shenhao Steel Structure Designing Co., Ltd
Shanghai DAHE Grating Co., Ltd
Sinosteel Yantai Steel Grating Co., Ltd
Tianchang Flying-Dragon Metallic Products
Tianchang Flying-Dragon Metallic Products Co., Ltd
Qing Auging Mechancial
Xinxing Grating Factory
Yantai Hercules Metal Ltd
Yantai Xinke Steel Structure Co., Ltd
Zhejian Hengzhou Steel Grating
Zhejian Hengzhou Steel Grating Co., Ltd
The People's Republic of China: Certain Steel Threaded Rod 5 6 A-570-932 | 4/1/12-3/31/13
The People's Republic of China: Circular Welded Carbon Quality Steel Pipe ⁷ A-570-910 | 7/1/12-6/30/13
Baoshan Iron & Steel Co., Ltd
Beijing Jia Mei AO Trading Co., Ltd
Beijing Jinghua Global Trading Co., Ltd
Benxi Northern Steel Pipes, Co. Ltd
CNOOC Kingland Pipeline Co., Ltd
ETCO (China) International Trading Co., Ltd
Guangzhou Juyi Steel Pipe Co., Ltd
Huludao City Steel Pipe Industrial
Jiangsu Changbao Steel Tube Co., Ltd
Jiangsu Yulong Steel Pipe Co., Ltd
Liaoning Northern Steel Pipe Co., Ltd
Pangang Chengdu Group Iron & Steel Co., Ltd
Shanghai Zhongyou TIPO Steel Pipe Co., Ltd
Tianjin Haoyou Industry Trade Co., Ltd
Tianjin Baolai International Trade Co., Ltd
Tianjin Longshenghua Import & Export
Tianjin Shuangjie Steel Pipe Co., Ltd
Weifang East Steel Pipe Co., Ltd
WISCO & CRM Wuhan Materials & Trade
Zhejiang Kingland Pipeline Industry Co., Ltd
Countervailing Duty Proceedings
India: Polyethylene Terephthalate (PET) Film C-533-825 | 1/1/12-12/31/12
Ester Industries Ltd
Garware Polyester Ltd
Jindal Poly Films Limited of India
MTZ Polyesters Ltd
Polyplex Corporation Ltd
SRF Ltd
Uflex Limited
Vacmet
Italy: Certain Pasta C-475-819 | 1/1/12-12/31/12
DeMatteis Agroalimentare S.p.A
Delverde Industrie Alimentari S.p.A
Fratelli DeCecco di Filippo Fara San Martino S.p.A
Ghigi Industria Agroalimentare in San Clemente srl
Pasta Granoro S.r.L. aka Pastifico Attilio Mastromauro Granoro S.r.L
Valdigrano di Flavio Pagani S.r.L
The People's Republic of China: Circular Welded Carbon Quality Steel Pipe C-570-911 | 1/1/12-12/31/12
Baoshan Iron & Steel Co., Ltd
Beijing Jia Mei AO Tading Co., Ltd
Beijing Jinghua Global Trading Co
Benxi Northern Steel Pipes, Co. Ltd
CNOOC Kingland Pipeline Co., Ltd
ETCO (China) International Trading Co., Ltd
Guangzhou Juyi Steel Pipe Co., Ltd
Huludao City Steel Pipe Industrial
Jiangsu Changbao Steel Tube Co., Ltd
Jiangsu Yulong Steel Pipe Co., Ltd
Liaoning Northern Steel Pipe Co., Ltd
Pangang Chengdu Group Iron & Steel Co., Ltd
Shanghai Zhongyou TIPO Steel Pipe Co., Ltd
Tianjin Haoyou Industry Trade Co
Tianjin Longshenghua Import & Export
Tianjin Shuangjie Steel Pipe Co., Ltd
Weifang East Steel Pipe Co., Ltd
WISCO & CRM Wuhan Materials & Trade
Zhejiang Kingland Pipeline Industry Co., Ltd

Suspension Agreements

None

³ The company name listed above was misspelled in the initiation notice that published on August 1, 2013 (78 FR 46566). The correct spelling of the company is listed in this notice.

⁴ If one of the above-named companies does not qualify for a separate rate, all other exporters of Certain Steel Grating from the PRC who have not qualified for a separate rate are deemed to be covered by this review as part of the single PRC entity of which the named exporters are a part.

⁵ If one of the above-named companies does not qualify for a separate rate, all other exporters of Certain Steel Threaded Rod the PRC who have not qualified for a separate rate are deemed to be covered by this review as part of the single PRC entity of which the named exporters are a part.

⁶ In the initiation that published on June 3, 2013 (78 FR 33052) the Department incorrectly identified that administrative reviews were initiated on the antidumping duty order of Certain Steel Threaded Rod from the PRC for the following companies: (1) China Jiangsu International Economic Technical Cooperation Corporation; (2) Ningbo Baoli Machinery Manufacture Co., Ltd.; and (3) Shanghai P&J International Trading Co., Ltd. The Department is now correcting that notice: The Department is initiating administrative reviews on the antidumping duty order of Certain Steel Threaded Rod from the PRC for the following companies: (1) China Friendly Nation Hardware Technology Limited; and (2) Orient International Holding Shanghai Rongheng Intl Trading Co. Ltd.

⁷ If one of the above-named companies does not qualify for a separate rate, all other exporters of Circular Welded Carbon Quality Steel Pipe from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that the meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://ia.ita.doc.gov/frn/2013/1304frn/2013-08227.txt, prior to submitting factual information in this segment.

Any party submitting factual information in an antidumping duty or countervailing duty proceeding must certify to the accuracy and completeness of that information. See section 782(b) of the Act. Parties are hereby reminded that revised certification requirements are in effect for company/government officials as well as their representatives. Ongoing segments of any antidumping duty or countervailing duty proceedings initiated on or after March 14, 2011 should use the formats for the revised certifications provided at the end of the Interim Final Rule. See Certification of Factual Information to Import Administration During Antidumping and Countervailing Duty Proceedings: Interim Final Rule, 76 FR 7491 (February 10, 2011) (“Interim Final Rule”), amending 19 CFR 351.303(g)(1) and (2); Certification of Factual Information to Import Administration during Antidumping and Countervailing Duty Proceedings: Supplemental Interim Final Rule, 76 FR 54697 (September 2, 2011). All segments of any antidumping duty or countervailing duty proceedings initiated on or after August 16, 2013, should use the formats for the revised certifications provided at the end of the Final Rule. See Certification of Factual Information To Import Administration During Antidumping and Countervailing Duty Proceedings, 78 FR 42678 (July 17, 2013) (“Final Rule”); see also the frequently asked questions regarding the Final Rule, available at http://ia.ita.doc.gov/tlei/notices/factual_info_final_rule_FAQ_07172013.pdf. The Department intends to reject factual submissions in any proceeding segments if the submitting party does not comply with applicable revised certification requirements.

These initiations and this notice are in accordance with section 751(a) of the Act (19 USC 1675(a)) and 19 CFR 351.221(c)(1)(i).

Dated: August 21, 2013.
Gary Taverman,
Senior Advisor for Antidumping and Countervailing Duty Operations.

[FR Doc. 2013-21022 Filed 8-27-13; 8:45 am]

BILLING CODE 3510-DS-P